DEPARTMENT OF HOUSING AND URBAN DEVELOPMENT

[Docket No. FR-5486-N-25]

Notice of Submission of Proposed Information Collection to OMB Homelessness Prevention Study

AGENCY: Office of Policy Development and Research, HUD.

ACTION: Notice.

SUMMARY: The Department of Housing and Urban Development requests review and approval of the Paperwork Reduction Act requirements for site visits that are part of HUD's Homelessness Prevention Study. The proposed information collection was approved under emergency review (OMB Control #2528-0270). As required by the Paperwork Reduction Act, the proposed information collection will be submitted to the Office of Management and Budget (OMB) for full review and extension of approval. The Department is soliciting public comments on the proposed collection of information to: (1) Enhance the quality, utility, and clarity of the information to be collected; and (2) minimize the burden of the collection of information on those who are to respond; including through the use of appropriate automated collection techniques or other forms of information technology that will reduce burden (e.g., permitting electronic submission of responses).

DATES: December 19, 2011.

ADDRESSES: Interested persons are invited to submit comments regarding this proposal. Comments must be received within sixty (60) days from the date of this Notice. Comments should refer to the proposal by name or OMB approval number and should be sent to: Reports Liaison Officer, Office of Policy Development and Research, Department of Housing and Urban Development, 451 Seventh Street, SW., Room 8230, Washington, DC 20410.

FOR FURTHER INFORMATION CONTACT: Elizabeth Rudd, Department of Housing and Urban Development, 451 7th Street, SW., Room 8120, Washington, DC 20410; e-mail Elizabeth.C.Rudd@hud.gov; or telephone 202-402-7607. This is not a toll-free number. Copies of documents submitted to OMB may be obtained from Dr. Rudd.

SUPPLEMENTARY INFORMATION: This Notice informs the public that the U.S. Department of Housing and Urban Development (HUD) has submitted to OMB a request to extend approval for information collection for the Homelessness Prevention study that was already approved under emergency review (OMB Control #2528-0270). HUD requests extension of approval for the site visit interview guide.

Congress established the Homelessness Prevention and Rapid Re-Housing Program (HPRP) under the American Recovery and Reinvestment Act of 2009 (ARRA) to provide resources to state and local governments to aid households at risk of homelessness maintain stable housing and to help currently homeless households get back into permanent housing quickly. HUD allocated $1.5 billion to 535 government agency grantees (55 states and territories, 147 counties, and 333 cities) to be spent over three years. HUD funded the Homelessness Prevention Study to study the prevention programs established by communities with HPRP funds. The study includes a survey of a nationally representative sample of HPRP grantees and 15-18 site visits to selected HPRP grantees.

Title of Proposed Notice: Homelessness Prevention Study.

Description of Information Collection: This is a request to extend approval granted under emergency review (OMB Control # 2528-0270) that expires on January 1, 2012. Administration of the survey and half of the site visits will be completed before the current OMB approval expires. Therefore, this request to extend approval applies only to the collection of information during 7-8 site visits at HPRP-funded homelessness prevention programs.

OMB Control Number: 2528-0270.

Agency Form Numbers: None.

Members of Affected Public: Selected HPRP grantees who agree to participate in the site visits for the evaluation.

Estimation of the total number of hours needed to prepare the information collection including number of respondents, frequency of responses, and hours of responses: The estimated number of respondents in the site visits is approximately 62 individuals; the frequency of the response is once; and the total reporting burden will be approximately 46.5 hours.

Authority: The Paperwork Reduction Act of 1995, 44 U.S.C. chapter 35, as amended.

Dated: October 7, 2011.
Raphael W. Bostic,
Assistant Secretary for Policy Development and Research.

[FR Doc. 2011-26922 Filed 10-17-11; 8:45 am]

BILLING CODE 4210-67-P